DEPARTMENT OF TRANSPORTATION

Federal Aviation Administration

14 CFR Part 39

[Docket No. FAA-2006-24948; Directorate Identifier 2005-NM-030-AD; Amendment 39-14871; AD 2006-26-13]

RIN 2120-AA64

Airworthiness Directives; Boeing Model 707-100 Long Body, -100B Long Body, -100B Short Body, -E3F, -300, -300B, and -300C Series Airplanes; Model 727-100 and -200 Series Airplanes; Model 737-200, -200C, -300, -400, and -500 Series Airplanes; Model 747-100B, 747-200B, 747-200C, 747-200F, 747-300, 747-400, 747-400D, 747SR, and 747SP Series Airplanes; Model 757-200 and 757-200PF Series Airplanes; and Model 767-200 and -300 Series Airplanes; Equipped With Observer or Attendant Seats

AGENCY: Federal Aviation Administration (FAA), Department of Transportation (DOT).

ACTION: Final rule.

SUMMARY: The FAA is superseding two existing airworthiness directives (AD), which apply to certain Boeing airplanes as specified above. Those ADs currently require inspection of the attachment of the shoulder restraint harness to the mounting bracket on certain observer and attendant seats to determine if a C-clip is used in the attachment, and corrective action if necessary. This new AD removes certain airplanes from the applicability of one existing AD and adds other airplanes. We also determined that this new AD refers to identical revisions of certain service information cited by another existing AD. This AD results from the determination that some airplanes had been inadvertently included in or excluded from the applicability of one existing AD and that certain additional new airplanes are now subject to the identified unsafe condition. We are issuing this AD to prevent detachment of the shoulder restraint harness of the attendant or observer seat from its mounting bracket during service, which could result in injury to the occupant of the seat.

DATES: This AD becomes effective February 12, 2007.

The Director of the Federal Register approved the incorporation by reference of certain publications listed in the AD as of February 12, 2007.

On October 21, 2003 (68 FR 57609, October 6, 2003), the Director of the Federal Register approved the incorporation by reference of certain other publications listed in the AD.

On January 4, 2002 (66 FR 59681, November 30, 2001), the Director of the Federal Register approved the incorporation by reference of certain other publications listed in the AD.

ADDRESSES: You may examine the AD docket on the Internet at http://dms.dot.gov or in person at the Docket Management Facility, U.S. Department of Transportation, 400 Seventh Street SW., Nassif Building, Room PL-401, Washington, DC.

For service information identified in this AD, contact Boeing Commercial Airplanes, P.O. Box 3707, Seattle, Washington 98124-2207.

FOR FURTHER INFORMATION CONTACT: Patrick Gillespie, Aerospace Engineer, Cabin Safety and Environmental Systems Branch, ANM-150S, FAA, Seattle Aircraft Certification Office, 1601 Lind Avenue, SW., Renton, Washington 98057-3356; telephone (425) 917-6429; fax (425) 917-6590.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2001-24-02, amendment 39-12518 (66 FR 59681, November 30, 2001). The existing AD applies to certain Boeing Model 707-100, -100B, -300, and -E3A (military airplanes); 727-100 and -200; 737-200, -200C, -300, -400, and -500; 747SP and 747SR; 747-100B, -200B, -200C, -200F, -300, -400, and -400D; 757-200 and -200PF; and 767-200 and -300 series airplanes. That NPRM was published in the Federal Register on June 8, 2006 (71 FR 33267). That NPRM proposed to continue to require an inspection of the attachment of the shoulder restraint harness to the mounting bracket on certain observer and attendant seats to determine if a C-clip is used in the attachment, and corrective action, if necessary. That NPRM also proposed to remove certain airplanes from the applicability of the existing AD and add others.

Since we issued that NPRM, we were made aware that another AD should be affected by the proposed action. AD 2003-20-08, amendment 39-13326 (68 FR 57609, October 6, 2003), was issued to correct the same unsafe condition on certain Boeing Model 747-100B, -200B, -200C, -200F, -300, -400, -400D, 747SP, and 747SR series airplanes, and Model 767-200 and -300 series airplanes, not addressed by AD 2001-24-02. As this new AD cites certain primary sources of service information that are already cited in AD 2003-20-08, we determined that this could lead to confusion regarding applicability and unnecessary extra recordkeeping. Therefore, we also determined that this AD should be revised to supersede AD 2003-20-08 as well as AD 2001-24-02. Because none of the airplanes affected by AD 2003-20-08 appear on the U.S. Register, the requirements and costs to operators described in the NPRM will not change; therefore, we determined that providing additional notice and opportunity for public comment is unnecessary before this AD is issued.

Comments

We provided the public the opportunity to participate in the development of this AD. We have considered the comments that have been received on the NPRM.

Support for the NPRM

Boeing concurs with the contents of the NPRM.

Recommendation for Reference to Additional AD

United Airlines (UAL) and United Parcel Service (UPS) recommend a reference to an additional existing AD. UAL and UPS state that AD 2003-20-08 addresses exactly the same problem on Boeing Model 747 and 767 airplanes. UPS and UAL recommend that the NPRM refer to both AD 2001-24-02 and AD 2003-20-08.

We agree. Further, as discussed earlier, we have determined that this AD should not only refer to AD 2003-20-08, it should supersede that AD. AD 2001-24-02 refers to Boeing Service Bulletins 747-25-3244 and 767-25-0288, both at Revision 1, both dated May 17, 2001, as primary sources of service information, while AD 2003-20-08 refers to Boeing Service Bulletin 747-25-3244, Revision 4, dated June 26, 2003, and Boeing Special Attention Service Bulletin 767-25-0288, Revision 3, dated August 1, 2002, as primary sources of service information. No conflict exists between those references. However, this AD also refers to Boeing Service Bulletin 747-25-3244, Revision 4, dated June 26, 2003; and Boeing Special Attention Service Bulletin 767-25-0288, Revision 3, dated August 1, 2002, as primary sources of service information. Two existing ADs that refer to identical service information to require identical actions could lead to confusion regarding applicability and unnecessary extra recordkeeping. As revising this AD to supersede AD 2003-20-08 will not add any requirements to this AD or increase costs to operators, we have determined that additional time for comments is unnecessary. Therefore, to eliminate parallel rulemaking and reduce the workload to operators and the FAA, we have revised this AD to supersede AD 2003-20-08 as well as AD 2001-24-02. As part of this revision, we have added a new Table 2 in paragraph (f) of this AD to address the applicability of AD 2001-24-02, and re-identified the existing Table 2 and all subsequent tables in the AD.

Request To Approve Existing Alternative Methods of Compliance (AMOCs)

UAL, UPS, and ABX Air (ABX) request that previously granted AMOCs with AD 2001-24-02 be approved for use with this AD. UAL is of the opinion that these previously granted AMOCs should also be valid for use under this new ruling. ABX relates that it went through the AMOC process for AD 2001-24-02 and requests that the following statement be added to the NPRM: “AMOCs approved previously per AD 2001-24-02, amendment 39-12518, are approved as AMOCs with the applicable actions in paragraph (f) of this AD.” UPS states that although this AD retains the requirements of AD 2001-24-02, this AD does not address the approved AMOCs to AD 2001-24-02. UPS asserts that all airplanes affected by AD 2001-24-02 would have been inspected within 36 months after January 4, 2002 (the effective date of AD 2001-24-02), or would be operating under an AMOC approved for use with AD 2001-24-02. UPS asserts that, if this AD supersedes AD 2001-24-02 without permitting use of the previously approved AMOCs, airplanes would be grounded immediately as of the effective date of this AD.

We agree. The only changes to this AD affect airplane applicability; therefore, all previously granted AMOCs are still valid. Further, we have determined that approved AMOCs with AD 2003-20-08 are still valid as well. Therefore, we have revised paragraph (m) of this AD to state that previously approved AMOCs with AD 2001-24-02 and AD 2003-20-08 are valid for use with this AD.

Request To Exempt Freighter Airplanes

UPS requests that airplanes which have been configured to carry freight be exempted from the applicability of this AD. UPS states that freighter airplanes no longer have the noted observer or attendant seats installed.

We agree that the specified seats are not currently installed on freighter airplanes, the specified C-clips are not present, and, as paragraph (c) of the AD states, the AD applies only to airplanes with observer or attendant seats installed. However, should such a seat be installed on a freighter airplane for any reason, that airplane would be subject to the requirements of this AD. Therefore, no change is needed to the AD in this regard.

Request To Revise Applicability

UPS requests that we revise the applicability of the NPRM. UPS asserts that, because the compliance time of AD 2001-24-02 has passed, all airplanes specified by that AD must be in compliance and this rule is not necessary for those airplanes. UPS requests that we make this AD applicable only to new airplanes instead of superseding AD 2001-24-02.

We do not agree. We have determined that the new AD is necessary to accurately reflect all applicable airplanes, to ensure that operators outside the U.S. are made aware of the AD requirements, and to ensure that any airplane imported into the country and placed on the U.S. Register is subject to the requirements of this AD. We have not changed the AD in this regard.

Conclusion

We have carefully reviewed the available data, including the comments that have been received, and determined that air safety and the public interest require adopting the AD with the changes described previously. We have determined that these changes will neither increase the economic burden on any operator nor increase the scope of the AD.

Costs of Compliance

Since we issued AD 2001-24-02 and AD 2003-20-08, we have increased the labor rate used in the cost estimate calculations to $80 per work hour. However, with respect to the total cost impact for the fleet, this increase in the hourly labor rate will be offset by the decrease in the number of affected airplanes in this AD. Further, none of the additional airplanes affected by AD 2003-20-08 appear on the U.S. Registry; therefore, no additional costs apply to U.S. operators.

The following table provides the estimated costs for U.S. operators to comply with this AD.

Estimated Costs
Base model | Number of work hours (@ ¼-work hour/seat) | Hourly labor rate | Total cost per airplane | Number of airplanes/U.S. registry | Total fleet cost | Number of airplanes/worldwide
707 | 1 | $80 | $80 | 21 | $1,680 | 250
727 | 1 | 80 | 80 | 881 | 70,480 | 1,986
737 | 2 | 80 | 160 | 459 | 73,440 | 885
747 | 5 | 80 | 400 | 83 | 33,200 | 554
757 | 2 | 80 | 160 | 257 | 41,120 | 262
767 | 3 | 80 | 240 | 207 | 49,680 | 596

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12518 (66 FR 59681, November 30, 2001) and amendment 39-13326 (68 FR 57609, October 6, 2003), and by adding the following new airworthiness directive (AD):

2006-26-13 Boeing: Amendment 39-14871. Docket No. FAA-2006-24948; Directorate Identifier 2005-NM-030-AD.

Effective Date

(a) This AD becomes effective February 12, 2007.

Affected ADs

(b) This AD supersedes AD 2001-24-02 and AD 2003-20-08.

Applicability

(c) This AD applies to airplanes, certificated in any category, as identified in Table 1 of this AD; equipped with any observer or attendant seat.

Table 1.—Applicability
Boeing— | As identified in Boeing—
(1) Model 707-100 long body, 707-100B long body, 707-100B short body, 707-E3F, 707-300, 707-300B, and 707-300C series airplanes | Service Bulletin 3499, Revision 1, dated May 17, 2001.
(2) Model 727-100 and 727-200 series airplanes | Service Bulletin 727-25-0295, Revision 2, dated February 6, 2003.
(3) Model 737-200, 737-200C, 737-300, 737-400, and 737-500 series airplanes | Special Attention Service Bulletin 737-25-1412, Revision 3, dated December 2, 2004.
(4) Model 747-100B, 747-200B, 747-200C, 747-200F, 747-300, 747-400, 747-400D, 747SR, and 747SP series airplanes | Service Bulletin 747-25-3244, Revision 4, dated June 26, 2003.
(5) Model 757-200 and 757-200PF series airplanes | Service Bulletin 757-25-0223, Revision 1, dated May 17, 2001.
(6) Model 767-200 and 767-300 series airplanes | Special Attention Service Bulletin 767-25-0288, Revision 3, dated August 1, 2002.

Unsafe Condition

(d) This AD results from reports of the shoulder restraint harness of the attendant or observer seat detaching from the mounting bracket. We are issuing this AD to prevent detachment of the shoulder restraint harness of the attendant or observer seat from its mounting bracket during service, which could result in injury to the occupant of the seat.

Compliance

(e) You are responsible for having the actions required by this AD performed within the compliance times specified, unless the actions have already been done.

Restatement of the Requirements of AD 2001-24-02

Inspection and Corrective Action

(f) For airplanes identified in Table 2 of this AD, excluding airplanes having variable numbers PW001 through PW054 inclusive, PW091, PW092, PW093, and PW094: Within 36 months after January 4, 2002 (the effective date of AD 2001-24-02), do a one-time general visual inspection of the attachment of the shoulder restraint harness of each observer or attendant seat to determine if a C-clip is used in the attachment. Do the inspection according to the applicable service bulletin identified in Table 3 of this AD. If the shoulder harness is looped through the bracket and attached to itself with a C-clip, do paragraph (f)(1) or (f)(2) of this AD. If the inspection required by paragraph (f) of this AD is done after the effective date of this AD, paragraph (f)(1) or (f)(2), if required, must be done before further flight after the inspection required by paragraph (f) of this AD.

Table 2.—Applicability of Paragraph (f) of This AD
Boeing— | As identified in Boeing—
Model 707-100 long body, 707-100B long body, 707-100B short body, 707-E3F, 707-300, 707-300B, and 707-300C series airplanes | Service Bulletin 3499, Revision 1, dated May 17, 2001.
Model 727-100 and 727-200 series airplanes | Service Bulletin 727-25-0295, Revision 1, dated May 17, 2001.
Model 737-200, -200C, -300, -400, and -500 series airplanes | Special Attention Service Bulletin 737-25-1412, Revision 1, dated May 17, 2001.
Model 747SR, 747SP, and 747-100B, -200B, -200C, -200F, -300, -400, and -400D series airplanes | Service Bulletin 747-25-3244, Revision 1, dated May 17, 2001.
Model 757-200 and 757-200PF series airplanes | Service Bulletin 757-25-0223, Revision 1, dated May 17, 2001.
Model 767-200 and -300 series airplanes | Service Bulletin 767-25-0288, Revision 1, dated May 17, 2001.

(1) Remove and discard the C-clip, and reattach the shoulder harness to the mounting bracket, according to the service bulletin. Accomplishment of these actions before the effective date of this AD according to the applicable service bulletin version identified in Table 4 of this AD is also acceptable for compliance with the requirements of paragraph (f)(1) of this AD.

(2) Install a second C-clip with the clip's opening positioned in the opposite direction of the opening of the existing C-clip, according to the optional method described in Steps 19 and 20 of Figure 1 or 2 of the applicable service bulletin.

Restatement of the Requirements of AD 2003-20-08

Inspection and Corrective Action

(g) For airplanes identified in paragraphs (c)(4) and (c)(6) of this AD: Within 36 months after October 21, 2003 (the effective date of AD 2003-20-08), do a one-time general visual inspection of the attachment of the shoulder restraint harness of each observer or attendant seat to determine if a C-clip is used in the attachment. Do the inspection according to the applicable service bulletin identified in Table 3 of this AD. If the shoulder harness is looped through the bracket and attached to itself with a C-clip, do paragraph (g)(1) or (g)(2) of this AD. If the inspection required by paragraph (g) of this AD is done after the effective date of this AD, paragraph (g)(1) or (g)(2) of this AD, if required, must be done before further flight after the inspection required by paragraph (g) of this AD.

(1) Remove and discard the C-clip, and reattach the shoulder harness to the mounting bracket, according to the service bulletin. Accomplishment of these actions before the effective date of this AD according to the applicable service bulletin version identified in Table 4 of this AD is also acceptable for compliance with the requirements of paragraph (g)(1) of this AD.

(2) Install a second C-clip with the clip's opening positioned in the opposite direction of the opening of the existing C-clip, according to the optional method described in Steps 19 and 20 of Figure 1 or 2 of the applicable service bulletin.

Acceptable for Compliance

(h) Removing and discarding the C-clip and reattaching the shoulder harness to the mounting bracket, according to Boeing Service Bulletin 747-25-3244, Revision 1, dated May 17, 2001, Revision 2, dated April 25, 2002, Revision 3, dated August 1, 2002, or Revision 4, dated June 26, 2003; or Boeing Service Bulletin 767-25-0288, Revision 1, dated May 17, 2001, or Revision 2, dated April 25, 2002; as applicable; is acceptable for compliance with the requirements of paragraph (g)(1) of this AD.

New Requirements of this AD

Inspection and Corrective Action

(i) For Model 737-200, -200C, -300, -400, and -500 series airplanes with variable numbers PW231 through PW252 inclusive: Within 36 months after the effective date of this AD, do a one-time general visual inspection of the attachment of the shoulder restraint harness of each observer or attendant seat to determine if a C-clip is used in the attachment. Do the inspection according to the applicable service bulletin identified in Table 3 of this AD. If the shoulder harness is looped through the bracket and attached to itself with a C-clip, do paragraph (i)(1) or (i)(2) of this AD before further flight.

(1) Remove and discard the C-clip, and reattach the shoulder harness to the mounting bracket, according to the service bulletin. Accomplishment of these actions before the effective date of this AD according to the applicable service bulletin version identified in Table 4 of this AD is also acceptable for compliance with the requirements of paragraph (i)(1) of this AD.

(2) Install a second C-clip with the clip's opening positioned in the opposite direction of the opening of the existing C-clip, according to the optional method described in Steps 19 and 20 of Figure 1 or 2 of the applicable service bulletin.

Table 3.—Required Service Bulletins for Applicable Requirements of This AD
Model | Boeing
707-100 long body, -100B long body, -100B short body, -E3F, -300, -300B, and -300C series airplanes | Service Bulletin 3499, Revision 1, dated May 17, 2001.
727-100 and -200 series airplanes | Service Bulletin 727-25-0295, Revision 1, dated May 17, 2001; or Service Bulletin 727-25-0295, Revision 2, dated February 6, 2003.
737-200, -200C, -300, -400, and -500 series airplanes | Service Bulletin 737-25-1412, Revision 1, dated May 17, 2001; or Special Attention Service Bulletin 737-25-1412, Revision 2, dated September 18, 2003; or Special Attention Service Bulletin 737-25-1412, Revision 3, dated December 2, 2004.
747-100B, 747-200B, 747-200C, 747-200F, 747-300, 747-400, 747-400D, 747SR, and 747SP series airplanes | Service Bulletin 747-25-3244, Revision 1, dated May 17, 2001; or Service Bulletin 747-25-3244, Revision 2, dated April 25, 2002; or Special Attention Service Bulletin 747-25-3244, Revision 3, dated August 1, 2002; or Service Bulletin 747-25-3244, Revision 4, dated June 26, 2003.
757-200 and 757-200PF series airplanes | Service Bulletin 757-25-0223, Revision 1, dated May 17, 2001.
767-200 and -300 series airplanes | Service Bulletin 767-25-0288, Revision 1, dated May 17, 2001; or Service Bulletin 767-25-0288, Revision 2, dated April 25, 2002; or Special Attention Service Bulletin 767-25-0288, Revision 3, dated August 1, 2002.

Table 4.—Acceptable Boeing Service Bulletin Revisions
Model | Special attention service bulletin
707-100 long body, -100B long body, -100B short body, -E3F, -300, -300B, and -300C series airplanes | 3499, dated April 27, 2000.
727-100 and -200 series airplanes | 727-25-0295, dated April 27, 2000.
737-200, -200C, -300, -400, and -500 series airplanes | 737-25-1412, dated April 27, 2000.
747-100B, 747-200B, 747-200C, 747-200F, 747-300, 747-400, 747-400D, 747SR, and 747SP | 747-25-3244, dated April 27, 2000.
757-200 and 757-200PF series airplanes | 757-25-0223, dated April 27, 2000.
767-200 and -300 series airplanes | 767-25-0288, dated April 27, 2000.

Parts Installation

(j) For airplanes identified in paragraph (f) of this AD: As of January 4, 2002, do not attach the shoulder restraint harness of an observer or attendant seat on any airplane to the mounting bracket using a C-clip, unless the requirements of paragraph (f)(2) of this AD are done.

(k) For airplanes identified in paragraph (g) of this AD: As of October 21, 2003, do not attach the shoulder restraint harness of an observer or attendant seat on any airplane to the mounting bracket using a C-clip, unless the requirements of paragraph (g)(2) of this AD are done.

(l) For airplanes identified in paragraph (i) of this AD: As of the effective date of this AD, do not attach the shoulder restraint harness of an observer or attendant seat on any airplane to the mounting bracket using a C-clip, unless the requirements of paragraph (i)(2) of this AD are done.

Alternative Methods of Compliance (AMOCs)

(m)(1) The Manager, Seattle Aircraft Certification Office (ACO), FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2001-24-02 and AD 2003-20-08 are approved as AMOCs for the corresponding provisions of this AD.

Material Incorporated by Reference

(n) You must use the applicable Boeing service bulletins specified in Table 5 of this AD to perform the actions that are required by this AD, unless the AD specifies otherwise.

Table 5.—All Material Incorporated by Reference
Boeing | Revision level | Date
Service Bulletin 3499 | 1 | May 17, 2001.
Service Bulletin 727-25-0295 | 1 | May 17, 2001.
Service Bulletin 727-25-0295 | 2 | February 6, 2003.
Service Bulletin 737-25-1412 | 1 | May 17, 2001.
Service Bulletin 747-25-3244 | 1 | May 17, 2001.
Service Bulletin 747-25-3244 | 2 | April 25, 2002.
Service Bulletin 747-25-3244 | 4 | June 26, 2003.
Service Bulletin 757-25-0223 | 1 | May 17, 2001.
Service Bulletin 767-25-0288 | 1 | May 17, 2001.
Service Bulletin 767-25-0288 | 2 | April 25, 2002.
Special Attention Service Bulletin 737-25-1412 | 2 | September 18, 2003.
Special Attention Service Bulletin 737-25-1412 | 3 | December 2, 2004.
Special Attention Service Bulletin 747-25-3244 | 3 | August 1, 2002.
Special Attention Service Bulletin 767-25-0288 | 3 | August 1, 2002.

(1) The Director of the Federal Register approved the incorporation by reference of the documents specified in Table 6 of this AD in accordance with 5 U.S.C. 552(a) and 1 CFR part 51.

Table 6.—New Material Incorporated by Reference
Boeing | Revision level | Date
Service Bulletin 727-25-0295 | 2 | February 6, 2003.
Service Bulletin 747-25-3244 | 2 | April 25, 2002.
Service Bulletin 767-25-0288 | 2 | April 25, 2002.
Special Attention Service Bulletin 737-25-1412 | 2 | September 18, 2003.
Special Attention Service Bulletin 737-25-1412 | 3 | December 2, 2004.
Special Attention Service Bulletin 747-25-3244 | 3 | August 1, 2002.

(2) On October 21, 2003 (68 FR 57609, October 6, 2003), the Director of the Federal Register approved the incorporation by reference of Boeing Service Bulletin 747-25-3244, Revision 4, dated June 26, 2003; and Boeing Special Attention Service Bulletin 767-25-0288, Revision 3, dated August 1, 2002.

(3) On January 4, 2002 (66 FR 59681, November 30, 2001), the Director of the Federal Register approved the incorporation by reference of the Boeing service bulletins specified in Table 7 of this AD.

Table 7.—Certain Material Previously Incorporated by Reference
Boeing | Revision level | Date
Service Bulletin 3499 | 1 | May 17, 2001.
Service Bulletin 727-25-0295 | 1 | May 17, 2001.
Service Bulletin 737-25-1412 | 1 | May 17, 2001.
Service Bulletin 747-25-3244 | 1 | May 17, 2001.
Service Bulletin 757-25-0223 | 1 | May 17, 2001.
Service Bulletin 767-25-0288 | 1 | May 17, 2001.

(4) Contact Boeing Commercial Airplanes, P.O. Box 3707, Seattle, Washington 98124-2207, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on December 21, 2006.
Ali Bahrami,
Manager, Transport Airplane Directorate, Aircraft Certification Service.

[FR Doc. E6-22467 Filed 1-5-07; 8:45 am]

BILLING CODE 4910-13-P